DEPARTMENT OF TRANSPORTATION

Federal Highway Administration

Federal Transit Administration

Supplemental Environmental Impact Statement for the Interstate Bridge Replacement Program

AGENCY: Federal Highway Administration (FHWA) and Federal Transit Administration (FTA), USDOT.

ACTION: Notice.

SUMMARY: The FHWA and FTA are issuing this notice to advise other Federal, State, and local agencies, Tribes, and the public that a Supplemental Environmental Impact Statement (SEIS) will be prepared in accordance with the National Environmental Policy Act (NEPA) for the Interstate Bridge Replacement (IBR) Program for proposed highway and high-capacity transit improvements between Portland, Oregon, and Vancouver, Washington, across the Columbia River in the Interstate 5 (I-5) corridor, including the interstate bridge replacement and addressing changes that have occurred since the I-5 Columbia River Crossing (CRC) Project's 2011 Record of Decision (ROD).

FOR FURTHER INFORMATION CONTACT:

For FHWA: Thomas Goldstein, PE, Federal Highway Administration, 530 Center Street NE, Suite 420, Salem, OR 97301; Telephone: (503) 316-2545.

For FTA: Jeff Horton, Federal Transit Administration, Region 10, 915 Second Avenue, Suite 3192, Seattle, WA 98174; Telephone: (206) 220-4463.

For the IBR Program (ODOT/WSDOT): Chris Regan, IBR Environmental Manager, Interstate Bridge Replacement Program, 500 East Broadway, Suite 200, Vancouver, WA 98660; Telephone: (360) 556-7135.

SUPPLEMENTARY INFORMATION: The FHWA and FTA, as Federal joint lead agencies, the Oregon Department of Transportation (ODOT), the Washington State Department of Transportation (WSDOT), Metro, Southwest Washington Regional Transportation Council (RTC), Tri-County Metropolitan Transportation District of Oregon (TriMet), and Clark County Public Transportation Benefit Area Authority (C-TRAN), as local joint lead agencies, intend to prepare a SEIS for the IBR Program for proposed highway and high-capacity transit improvements between Portland, Oregon, and Vancouver, Washington, across the Columbia River in the I-5 corridor. Federal cooperating agencies in the preparation of the SEIS will be the National Oceanic and Atmospheric Administration National Marine Fisheries Service, National Park Service, U.S. Army Corps of Engineers, U.S. Coast Guard (USCG), and U.S. Environmental Protection Agency. This analysis includes the interstate bridge replacement and addresses changes that have occurred since the 2011 CRC Project's ROD.

The IBR Program builds on previous studies conducted for the CRC Project between 2005 and 2013. As identified in the CRC Project's ROD, the Selected Alternative (referred to as the Locally Preferred Alternative (LPA)) included: (1) two new bridges to replace the existing, functionally obsolete lift span bridges over the Columbia River; (2) improvements to seven I-5 interchanges (from south to north: Victory Boulevard, Marine Drive, Hayden Island, SR 14, Mill Plain Boulevard, Fourth Plain Boulevard and SR 500) and related enhancements to the local street network; (3) improvements to the existing I-5 mainline bridge over the North Portland Harbor; (4) bicycle and pedestrian improvements throughout the corridor, including a multi-use path that would allow users to travel from north Portland into downtown Vancouver and destinations farther north; (5) extension of light rail transit from the Expo Center in Portland to Clark College in Vancouver and associated transit improvements; and (6) transportation demand and system management measures, including the use of tolls subject to the authority of the Washington and Oregon Transportation Commissions. After the CRC Project's ROD was published, two NEPA re-evaluations were prepared: one to increase the height of the Columbia River bridges, and another to evaluate a phased construction plan. Neither of these re-evaluations found it necessary to prepare a SEIS.

In 2014, ODOT and WSDOT suspended the CRC Project due to lack of funding needed to complete design and construction. In 2019, ODOT and WSDOT reinitiated the CRC Project as the IBR Program. The needs identified in the CRC Purpose and Need statement are still pertinent to the IBR Program. As a result, the Purpose and Need statement for the IBR Program remains the same as in the CRC Project's 2011 Final EIS and ROD. On December 29, 2021, FHWA and FTA completed a re-evaluation concluding that, due to changes in the physical environment, community priorities, and regulations that have occurred since the 2011 CRC Project ROD, and potential design changes or refinements to the CRC Selected Alternative, the IBR Program may result in new or changed significant impacts that were not evaluated in the CRC Project's Final EIS and ROD. Therefore, pursuant to 23 CFR 771.130(a), FHWA and FTA have determined that a SEIS is necessary to identify and disclose any new significant impacts and mitigation associated with the IBR Program.

The CRC Project's EIS, ROD, and two re-evaluations, the Purpose and Need statement, and the 2021 re-evaluation for the IBR Program are available on the IBR Program website at CRC Environmental Documentation.

The IBR Program SEIS will incorporate the CRC Project's NEPA analyses and other relevant information, as appropriate. The focus of the IBR Program SEIS will be limited to areas and issues that have resulted in changes to impacts and mitigation, including the following: proposed modifications to the bridge design, interchanges and lane configurations, and transit options; changes in existing conditions; safety considerations; and updated regulations/policies and permitting requirements, including USCG bridge clearance requirements. The IBR Program SEIS will provide updated information on the affected environment, environmental consequences, and mitigation measures for a modified LPA; coordination activities and input from Federal, State, and local agencies; consultation with Tribes; and public involvement. The SEIS will follow the same process and format as the CRC Project's EIS, except that in accordance with 23 CFR 771.130(d), additional scoping is not required. Per 40 CFR 1506.13, the SEIS will follow Council on Environmental Quality (CEQ) regulations that were in effect when the original Notice of Intent was published for the CRC Project on September 27, 2005.

The IBR Program has and will continue to offer extensive opportunities for public, agency, and tribal involvement, building on past NEPA compliance and associated outreach. The IBR Program has established a Community Advisory Group, Equity Advisory Group, and Executive Steering Group that meet regularly to provide input on changes since the CRC Project EIS and ROD, and to develop strategies for the IBR Program to address those changes.

Public involvement is a critical component of the IBR Program and will occur throughout the SEIS process in compliance with NEPA and other applicable environmental laws, Executive Orders, regulations, and policies. One or more public hearing(s) will be held during the public comment period following the publication of the Draft SEIS. The Draft SEIS will be made available for public, agency, and Tribe review and comment prior to the public hearing. After public review of the Draft SEIS, FHWA, FTA, ODOT, WSDOT, Metro, RTC, TriMet, and C-TRAN anticipate issuing a combined Final SEIS/ROD pursuant to 23 U.S.C. 139(n)(2) and 23 CFR 771.124.

Authority: 42 U.S.C. 4321 et seq.; 23 U.S.C. 139.

Issued on: March 28, 2023.
Ralph J. Rizzo,
FHWA Division Administrator, Olympia, WA.
Keith Lynch,
FHWA Division Administrator, Salem, OR.
Susan K. Fletcher,
Acting FTA Regional Administrator, Seattle, WA.

[FR Doc. 2023-07052 Filed 4-4-23; 8:45 am]

BILLING CODE 4910-RY-P